DEPARTMENT OF JUSTICE

Drug Enforcement Administration

Importer of Controlled Substances; Notice of Registration; Lipomed

By Notice dated April 16, 2013, and published in the Federal Register on April 23, 2013, 78 FR 23957, Lipomed, One Broadway, Cambridge, Massachusetts 02142, made application by letter to the Drug Enforcement Administration (DEA) to be registered as an importer of the following basic classes of controlled substances:

Drug | Schedule
JWH-250 (6250) | I
SR-18 also known as RCS-8 (7008) | I
JWH-019 (7019) | I
JWH-081 (7081) | I
SR-19 also known as RCS-4 (7104) | I
JWH-122 (7122) | I
AM-2201 (7201) | I
JWH-203 (7203) | I
2C-T-2 (7385) | I
JWH-398 (7398) | I
2C-D (7508) | I
2C-E (7509) | I
2C-H (7517) | I
2C-I (7518) | I
2C-C (7519) | I
2C-N (7521) | I
2C-P (7524) | I
2C-T-4 (7532) | I
AM-694 (7694) | I

The company plans to import analytical reference standards for distribution to its customers for research and analytical purposes.

No comments or objections have been received. DEA has considered the factors in 21 U.S.C. 823(a) and 952(a) and determined that the registration of Lipomed, to import the basic classes of controlled substances is consistent with the public interest and with United States obligations under international treaties, conventions, or protocols in effect on May 1, 1971. DEA has investigated Lipomed, to ensure that the company's registration is consistent with the public interest. The investigation has included inspection and testing of the company's physical security systems, verification of the company's compliance with state and local laws, and a review of the company's background and history. Therefore, pursuant to 21 U.S.C. 952(a) and 958(a), and in accordance with 21 CFR 1301.34, the above named company is granted registration as an importer of the basic classes of controlled substances listed.

Dated: June 18, 2013.
Joseph T. Rannazzisi,
Deputy Assistant Administrator, Office of Diversion Control, Drug Enforcement Administration.

[FR Doc. 2013-15601 Filed 6-28-13; 8:45 am]

BILLING CODE 4410-09-P